DEPARTMENT OF COMMERCE

National Oceanic and Atmospheric Administration

[I.D. 100606B]

Pacific Fishery Management Council; Public Meeting/Workshop

AGENCY: National Marine Fisheries Service (NMFS), National Oceanic and Atmospheric Administration (NOAA), Commerce.

ACTION: Notice of a public meeting.

SUMMARY: NMFS and the Pacific Fishery Management Council (Council) will hold a workshop to discuss the incorporation of data from the Northwest Fisheries Science Center (NWFSC) West Coast groundfish bottom trawl survey (conducted on the shelf and slope) into groundfish stock assessments, particularly those that will be conducted in 2007.

DATES: The NWFSC Bottom Trawl Survey workshop will be held Tuesday, October 31, 2006 through Thursday, November 2, 2006. The workshop will start at 9 a.m. and end at 5 p.m. on Tuesday and Wednesday, or as necessary to complete business. The workshop will adjourn at noon on Thursday, November 2, 2006.

ADDRESSES: The NWFSC Bottom Trawl Survey workshop will be held at the NOAA Western Regional Center (WRC), 7600 Sand Point Way NE, Building 9, Conference Room, Seattle, WA 98115.

Council address: Pacific Fishery Management Council, 7700 NE Ambassador Place, Suite 101, Portland, OR 97220-1384.

FOR FURTHER INFORMATION CONTACT: Ms. Stacey Miller, NWFSC; telephone: (206) 860-3480; or Mr. John DeVore, Pacific Fishery Management Council; telephone: (503) 820-2280.

SUPPLEMENTARY INFORMATION: Primary objectives of the workshop include: (1) Review survey protocols and data collected by the NWFSC West Coast groundfish bottom trawl surveys; (2) evaluate methods for including bottom trawl survey time series in stock assessments; (3) evaluate whether recent data from the NWFSC West Coast groundfish bottom trawl survey conducted on the shelf and slope should be included in update assessments only if they can be treated as a new time series, or whether the new data can be used to extend time series included in previous assessment models; and (4) compare biomass and variance estimates generated using a design-based swept area approach and model-based (Generalized Linear Mixed Models) approach.

All participants are encouraged to pre-register for the workshop by contacting Ms. Stacey Miller, NWFSC by phone at (206) 860-3480 or by email at Stacey.Miller@noaa.gov.

Although non-emergency issues not contained in the meeting agenda may come before the workshop participants for discussion, those issues may not be the subject of formal workshop action during this meeting. Workshop action will be restricted to those issues specifically listed in this notice and any issues arising after publication of this notice that require emergency action under Section 305c of the Magnuson-Stevens Fishery Conservation and Management Act, provided the public has been notified of the workshop participants' intent to take final action to address the emergency.

Special Accommodations

This meeting is physically accessible to people with disabilities. Requests for sign language interpretation or other auxiliary aids should be directed to Ms. Carolyn Porter at (503) 820-2280 at least 5 days prior to the meeting date.

Pre-registration for the workshop will expedite entry to the NOAA WRC. All WRC visitors will be required to show a valid picture ID and register with security every morning. A visitor's badge, which must be worn while at the NOAA Facility, will be issued to non-Federal employees participating in the meeting.

Dated: October 10, 2006.
Tracey L. Thompson,
Acting Director, Office of Sustainable Fisheries, National Marine Fisheries Service.

[FR Doc. E6-16988 Filed 10-12-06; 8:45 am]

BILLING CODE 3510-22-S